GENERAL SERVICES ADMINISTRATION

48 CFR Part 511

[GSAR Case 2016-G511; Docket No. 2021-0018; Sequence No. 1]

RIN 3090-AJ84

General Services Acquisition Regulation (GSAR); Contract Requirements for GSA Information Systems

AGENCY: Office of Acquisition Policy, General Services Administration (GSA).

ACTION: Final rule; correction.

SUMMARY: On February 9, 2022, GSA published a final rule to amend the General Services Administration Acquisition Regulation (GSAR) to streamline and update requirements for contracts that involve GSA information systems and replace outdated text with existing policies of the GSA Office of the Chief Information Officer (OCIO) and provide centralized guidance to ensure consistent application across the organization. GSA is making editorial changes to an amendatory instruction under Part 511.

DATES: Effective March 11, 2022.

FOR FURTHER INFORMATION CONTACT: Ms. Johnnie McDowell, Procurement Analyst, at 202-718-6112 or gsarpolicy@gsa.gov, for clarification of content. For information pertaining to status or publication schedules, contact the Regulatory Secretariat Division at 202-501-4755 or gsaregsec@gsa.gov. Please cite GSAR Case 2016-G511.

SUPPLEMENTARY INFORMATION: In FR Doc. 2022-02662 appearing on pages 7393-7395 in the issue of February 9, 2022, make the following correction:

511.171 [Corrected]

On page 7395, in the second column, Instruction 4 is corrected to read:

4. Amend part 511 by adding Subpart 511.1—Selecting and Developing Requirements Documents, consisting of section 511.171 to read as follows:

Jeffrey A. Koses,
Senior Procurement Executive, Office of Acquisition Policy, Office of Government-wide Policy, General Services Administration.

[FR Doc. 2022-03411 Filed 2-16-22; 8:45 am]

BILLING CODE 6820-61-P